DEPARTMENT OF COMMERCE

International Trade Administration

[A-489-849]

Certain Paper Shopping Bags From the Republic of Türkiye: Antidumping Duty Order

AGENCY: Enforcement and Compliance, International Trade Administration, Department of Commerce.

SUMMARY: Based on affirmative final determinations by the U.S. Department of Commerce (Commerce) and the U.S. International Trade Commission (ITC), Commerce is issuing an antidumping duty order on certain paper shopping bags (paper shopping bags) from the Republic of Türkiye (Türkiye).

DATES: Applicable May 9, 2024.

FOR FURTHER INFORMATION CONTACT: Luke Caruso, AD/CVD Operations, Office IV, Enforcement and Compliance, International Trade Administration, U.S. Department of Commerce, 1401 Constitution Avenue NW, Washington, DC 20230; telephone: (202) 482-2081.

SUPPLEMENTARY INFORMATION:

Background

On March 18, 2024, Commerce published in the Federal Register its affirmative final determination in the less-than-fair-value (LTFV) investigation of paper shopping bags from Türkiye.¹ On May 3, 2024, Commerce published in the Federal Register a correction of the Final Determination.² Pursuant to section 735(d) of the Tariff Act of 1930, as amended (the Act), on May 2, 2024, the ITC notified Commerce of its affirmative final determination that an industry in the United States is materially injured, within the meaning of section 735(b)(1)(A)(i) of the Act, by reason of imports of paper shopping bags from Türkiye that are sold in the United States at LTFV.³

¹ See Certain Paper Shopping Bags from the Republic of Turkey: Final Affirmative Determination of Sales at Less Than Fair Value, 89 FR 19295 (March 18, 2024) (Final Determination).

² See Certain Paper Shopping Bags from the Republic of Türkiye: Final Affirmative Determination of Sales at Less Than Fair Value; Correction, 89 FR 36753 (May 3, 2024).

³ See ITC's Letter, Investigation No. 731-TA-1626 (Final), dated May 2, 2024.

Scope of the Order

The products covered by this order are paper shopping bags from Türkiye. For a complete description of the scope of this order, see the appendix to this notice.

Antidumping Duty Order

Based on the above-referenced affirmative final determinations, in accordance with sections 735(c)(2) and 736 of the Act, Commerce is issuing this antidumping duty order. Moreover, because the ITC determined that U.S. imports of paper shopping bags from Türkiye are materially injuring a U.S. industry, unliquidated entries of such merchandise from Türkiye, entered or withdrawn from warehouse for consumption, as described below, are subject to the assessment of antidumping duties.

Therefore, in accordance with section 736(a)(1) of the Act, Commerce will direct U.S. Customs and Border Protection (CBP) to assess, upon further instruction by Commerce, antidumping duties equal to the amount by which the normal value of the merchandise exceeds the export price or constructed export price of the merchandise, for all relevant entries of paper shopping bags from Türkiye. With the exception of entries occurring after expiration of the provisional measures period, but before publication of the ITC's final affirmative injury determination, as further described below, antidumping duties will be assessed on unliquidated U.S. entries of paper shopping bags from Türkiye entered, or withdrawn from warehouse, for consumption on or after January 3, 2024, the date of publication of the Preliminary Determination in this investigation in the Federal Register.⁴

⁴ See Certain Paper Shopping Bags from the Republic of Turkey: Preliminary Affirmative Determination of Sales at Less Than Fair Value, 89 FR 339 (January 3, 2024) (Preliminary Determination).

Continuation of Suspension of Liquidation

Except as noted in the “Provisional Measures” section of this notice below, in accordance with section 736 of the Act, Commerce will instruct CBP to continue to suspend liquidation of all relevant entries of paper shopping bags from Türkiye. These instructions suspending liquidation will remain in effect until further notice.

Commerce will also instruct CBP to require cash deposits at a rate equal to the estimated weighted-average dumping margins listed in the table below. Accordingly, effective on the date of publication in the Federal Register of the notice of the ITC's affirmative final injury determination, CBP will require, at the same time as importers would normally deposit estimated duties on subject merchandise, a cash deposit at the rate equal to the relevant estimated weighted-average dumping margins listed in the table below. The all-others rate applies to all producers or exporters not specifically listed.

Estimated Weighted-Average Dumping Margins

The estimated weighted-average dumping margins for this antidumping duty order are as follows:

Exporter or producer | Estimated weighted- average dumping margin (percent)
Artpack Kagit Ambalaj Anonim Sirketi | * 47.56
Oztas Ambalaj Sanayi ve Ticaret A.S | * 47.56
Babet Kagitsilik | * 47.56
Bati Kraft Torba Ambalaj | * 47.56
BFT Packaging | * 47.56
Cicupack Ambalaj | * 47.56
Ekopack Kagit Ambalaj | * 47.56
Elhadefler A.S | * 47.56
Esda Pack Ambalaj | * 47.56
Haypack Ambalaj | * 47.56
Jefira Global Dis | * 47.56
Kahramanmaraş Kağıt Sanayi ve Ticaret Anonim Şirketi | * 47.56
Multi Kraft Ambalaj | * 47.56
Rad Tekstil | * 47.56
Suleyman Tabak Kagitcilik | * 47.56
Sunvision Tekstil | * 47.56
Yildez Paper Bag Ambalaj Pazarlama | * 47.56
All Others | 26.32
* Rate based on the application of adverse facts available.

Provisional Measures

Section 733(d) of the Act states that suspension of liquidation pursuant to an affirmative preliminary determination may not remain in effect for more than four months, except where exporters representing a significant proportion of exports of the subject merchandise request that Commerce extend the four-month period to no more than six months.

Commerce published the Preliminary Determination in this investigation on January 3, 2024. Commerce did not extend the deadline for issuing its final determination in this investigation, which it published in the Federal Register on March 18, 2024. Therefore, the four-month period beginning on the date of publication of the Preliminary Determination ended on May 1, 2024.

Consequently, in accordance with section 733(d) of the Act, Commerce will instruct CBP to terminate the suspension of liquidation, and to liquidate, without regard to antidumping duties, unliquidated U.S. entries of paper shopping bags from Türkiye entered, or withdrawn from warehouse, for consumption after May 1, 2024, the final day on which the provisional measures were in effect, through the day preceding the date of publication of the ITC's affirmative final injury determination in the Federal Register. Suspension of liquidation and the collection of cash deposits will resume on the date of publication of the ITC's affirmative final injury determination in the Federal Register.

Establishment of the Annual Inquiry Service Lists

On September 20, 2021, Commerce published the final rule titled Regulations to Improve Administration and Enforcement of Antidumping and Countervailing Duty Laws in the Federal Register.⁵ On September 27, 2021, Commerce published a notification titled Scope Ruling Application; Annual Inquiry Service List; and Informational Sessions in the Federal Register.⁶ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.⁷

⁵ See Regulations to Improve Administration and Enforcement of Antidumping and Countervailing Duty Laws, 86 FR 52300 (September 20, 2021) (Final Rule).

⁶ See Scope Ruling Application; Annual Inquiry Service List; and Informational Sessions, 86 FR 53205 (September 27, 2021) (Procedural Guidance).

⁷ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be maintained in ACCESS, under each case number, and under a specific segment type called “AISL-Annual Inquiry Service List.” ⁸

⁸ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance in the annual inquiry service list segment in ACCESS for the order within 30 days after the date of publication of the order in the Federal Register. For ease of administration, Commerce requests that a law firm with more than one attorney representing an interested party in an order designate a lead attorney to be included on the annual inquiry service list. Commerce will finalize the annual inquiry service list within five business days thereafter. As mentioned in the Procedural Guidance, the new annual inquiry service list will be in place until the following year, when the Opportunity Notice for the anniversary month of the order is published in the Federal Register.

Commerce may update an annual inquiry service list at any time, as needed, based on interested parties' amendments to their entries of appearance to remove, or otherwise modify, their list of members and representatives, or to update contact information. Changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ⁹ Accordingly, as stated above, the petitioners and foreign governments should submit their initial entry of appearance after publication of this notice in the Federal Register in order to appear in the first annual inquiry service list for those orders for which they qualify as an interested party. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

⁹ See Final Rule, 86 FR 52335.

Notification to Interested Parties

This notice constitutes the antidumping duty order with respect to paper shopping bags from Türkiye, pursuant to section 736(a) of the Act. Interested parties can find a list of antidumping duty orders currently in effect at https://enforcement.trade.gov/stats/iastats1.html.

This antidumping duty order is issued and published in accordance with section 736(a) of the Act and 19 CFR 351.211(b).

Dated: May 6, 2024.
Ryan Majerus,
Deputy Assistant Secretary for Policy and Negotiations, performing the non-exclusive functions and duties of the Assistant Secretary for Enforcement and Compliance.

Appendix

Scope of the Order

The products within the scope of the order are paper shopping bags with handles of any type, regardless of whether there is any printing, regardless of how the top edges are finished (e.g., folded, serrated, or otherwise finished), regardless of color, and regardless of whether the top edges contain adhesive or other material for sealing closed. Subject paper shopping bags have a width of at least 4.5 inches and depth of at least 2.5 inches.

Paper shopping bags typically are made of kraft paper but can be made from any type of cellulose fiber, paperboard, or pressboard with a basis weight less than 300 grams per square meter (GSM).

A non-exhaustive illustrative list of the types of handles on shopping bags covered by the scope include handles made from any materials such as twisted paper, flat paper, yarn, ribbon, rope, string, or plastic, as well as die-cut handles (whether the punchout is fully removed or partially attached as a flap). Excluded from the scope are:

• Paper sacks or bags that are of a ⅙ or ⅐ barrel size (i.e., 11.5-12.5 inches in width, 6.5-7.5 inches in depth, and 13.5-17.5 inches in height) with flat paper handles or die-cut handles;

• Paper sacks or bags with die-cut handles, a grams per square meter paper weight of less than 86 GSM, and a height of less than 11.5 inches; and

• Paper sacks or bags (i) with non-paper handles made wholly of woven ribbon or other similar woven fabric ¹ and (ii) that are finished with folded tops or for which tied knots or t-bar aglets (made of wood, metal, or plastic) are used to secure the handles to the bags.

¹ Paper sacks or bags with handles made of braided or twisted materials, such as rope or cord, do not qualify for this exclusion.

The above-referenced dimensions are provided for paper bags in the opened position. The height of the bag is the distance from the bottom fold edge to the top edge (i.e., excluding the height of handles that extend above the top edge). The depth of the bag is the distance from the front of the bag edge to the back of the bag edge (typically measured at the bottom of the bag). The width of the bag is measured from the left to the right edges of the front and back panels (upon which the handles typically are located).

This merchandise is currently classifiable under Harmonized Tariff Schedule of the United States (HTSUS) subheadings 4819.30.0040 and 4819.40.0040. The HTSUS subheadings are provided for convenience and customs purposes only; the written description of the scope is dispositive.

[FR Doc. 2024-10253 Filed 5-8-24; 8:45 am]

BILLING CODE 3510-DS-P